DEPARTMENT OF DEFENSE

Department of the Air Force

Notice of Intent To Prepare an Environmental Impact Statement for T-X Recapitalization Joint Base San Antonio-Randolph

AGENCY: Department of the Air Force, Department of Defense.

ACTION: Notice of intent.

SUMMARY: The United States Air Force (USAF) is issuing this notice to advise the public of the intent to prepare an Environmental Impact Statement (EIS) for the proposed T-X Recapitalization at Joint Base San Antonio (JBSA)-Randolph. The EIS will assess the potential environmental consequences of the replacement of T-38C aircraft with the new fifth-generation T-X training aircraft, and, construction and renovation of T-X support facilities at JBSA-Randolph, Texas.

DATES: USAF invites the public, stakeholders, and other interested parties to attend an open house public scoping meeting from 5 p.m. to 8 p.m. on Tuesday, March 19, 2019 at the Olympia Hills Golf & Event Center, 12900 Mount Olympus, Universal City, Texas. A second open house public scoping meeting will be held from 5 p.m. to 8 p.m. on Wednesday, March 20, 2019 at Midway Hall, 728 Midway, Seguin, Texas. Participants may provide written comments at either of these public scoping meetings.

ADDRESSES: The project website www.TXRecapitalizationEIS.com provides more information on the EIS and can be used to submit scoping comments. Scoping comments may also be submitted to Mr. Christopher Moore, (210) 925-2728, AFCEC/CZN; Attn: T-X Recapitalization EIS; 2261 Hughes Ave, Suite 155; JBSA Lackland, TX 78236-9853, christopher.moore.114@us.af.mil. Comments will be accepted at any time during the environmental impact analysis process. However, to ensure the USAF has sufficient time to consider public input in the preparation of the Draft EIS, scoping comments should be submitted in English to the website or the address listed above by April 5, 2019.

SUPPLEMENTARY INFORMATION: The USAF intends to prepare an EIS to address the proposed replacement of the T-38C aircraft with the T-X aircraft and evaluate alternatives with varying levels of aircraft operations, five military construction projects and additional minor facility renovations at JBSA-Randolph.

Scoping and Agency Coordination: To effectively define the full range of issues to be evaluated in the EIS, the USAF will determine the scope of the analysis by soliciting comments from interested local, state and federal elected officials and agencies, as well as interested members of the public and others. A scoping meeting will be held in Universal City and the City of Seguin and the scheduled dates, times, and locations for the scoping meetings will also be published in local media a minimum of 15 days prior to the scoping meeting. The USAF also welcomes comments under Section 106 of the National Historic Preservation Act (36 Code of Federal Regulations 800) regarding the identification of or effects on historic properties.

If you have comments or would like to become a consulting party in the Section 106 process, please visit the project website or contact Mr. Christopher Moore, AFCEC/CZN at the address above.

Henry Williams,
Acting Air Force Federal Register Liaison Officer.

[FR Doc. 2019-01225 Filed 2-5-19; 8:45 am]

BILLING CODE 5001-10-P